DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2005 National Census Test Coverage Follow-up.

Form Number(s): None (interviews will be conducted via phone using an automated instrument).

Agency Approval Number: None.

Type of Request: New collection.

Burden: 10,000 hours.

Number of Respondents: 60,000.

Avg. Hours Per Response: 10 minutes.

Needs and Uses: The U.S. Census Bureau requests authorization from the Office of Management and Budget to conduct the 2005 National Census Test (NCT) Coverage Followup (CFU) operation.

Improved coverage is one of the four major goals for Census 2010. In preparation for the 2010 Census, the Census Bureau plans to conduct the 2005 CFU operation in conjunction with the 2005 NCT.

For the 2005 CFU operation, we plan to select a sample of respondents for a telephone followup interview. This coverage operation is intended to evaluate new procedures that have been developed to improve coverage and reduce duplication.

The purpose of the 2005 CFU operation is to determine whether respondents in the 2005 NCT included all the appropriate persons on their form and excluded persons who should have been counted elsewhere. The 2005 CFU operation will attempt to assess the accuracy in which respondents report within household coverage using different rostering approaches and coverage questions. The U.S. Census Bureau will conduct the 2005 CFU from November 1, 2005 through March 6, 2006.

The U.S. Census Bureau telephone center staff will interview households selected for 2005 CFU using computer-assisted telephone interviewing (CATI). The 2005 CFU CATI instrument will include the ability to conduct interviews in Spanish.

Affected Public: Individuals or households.

Frequency: One-time.

Respondent's Obligation: Mandatory.

Legal Authority: Title 13 U.S.C. 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: April 29, 2005.
Madeleine Clayton,
Management Analyst, Office of the Chief Information Officer.

[FR Doc. 05-8855 Filed 5-3-05; 8:45 am]

BILLING CODE 3510-07-P